Proclamation 7586 of August 28, 2002

To Modify Duty-Free Treatment Under the Generalized

System of Preferences for Argentina

By the President of the United States of America

A Proclamation

1. Section 503(c)(2)(C) of the Trade Act of 1974, as amended (the “1974 Act”) (19 U.S.C. 2463(c)(2)(C)), provides that a country that is no longer treated as a beneficiary developing country with respect to an eligible article may be redesignated as a beneficiary developing country with respect to such article if imports of such article from such country did not exceed the competitive need limitations in section 503(c)(2)(A) of the 1974 Act (19 U.S.C. 2463(c)(2)(A)) during the preceding calendar year.

2. Section 503(c)(2)(F) of the 1974 Act (19 U.S.C. 2463(c)(2)(F)) provides that the President may disregard the competitive need limitation provided in section 503(c)(2)(A)(i)(II) (19 U.S.C. 2463(c)(2)(A)(i)(II)) with respect to any eligible article from any beneficiary developing country if the aggregate appraised value of the imports of such article into the United States during the preceding calendar year does not exceed an amount set forth in section 503(c)(2)(F)(ii) (19 U.S.C. 2463(c)(2)(F)(ii)).

3. Pursuant to section 503(c)(2)(C) of the 1974 Act, I have determined that Argentina should be redesignated as a beneficiary developing country with respect to certain eligible articles that previously had been imported in quantities exceeding the competitive need limitations of section 503(c)(2)(A).

4. Pursuant to section 503(c)(2)(F) of the 1974 Act, I have determined that the competitive need limitation provided in section 503(c)(2)(A)(i)(II) should be waived with respect to certain eligible articles from Argentina.

5. Section 604 of the 1974 Act (19 U.S.C. 2483) authorizes the President to embody in the Harmonized Tariff Schedule of the United States (HTS) the substance of the relevant provisions of that Act, and of other acts affecting import treatment, and actions thereunder, including the removal, modification, continuance, or imposition of any rate of duty or other import restriction.

NOW, THEREFORE, I, GEORGE W. BUSH, President of the United States of America, acting under the authority vested in me by the Constitution and the laws of the United States, including section 301 of title 3, United States Code, and title V and section 604 of the 1974 Act, do proclaim that:

(1) In order to provide that Argentina, which has not been treated as a beneficiary developing country with respect to certain eligible articles, should be redesignated as a beneficiary developing country with respect to those articles for purposes of the GSP:

(a) general note 4(d) to the HTS is modified as provided in section A of the Annex to this proclamation.

(b) the Rates of Duty 1-Special subcolumn for each of the HTS subheadings enumerated in section B of the Annex to this proclamation is modified as provided in such section.

(2) A waiver of the application of section 503(c)(2)(A) (i)(II) of the 1974 Act shall apply to the eligible articles in the HTS subheadings and to the beneficiary developing country listed in section C of the Annex to this proclamation.

(3) Any provisions of previous proclamations and Executive Orders that are inconsistent with the actions taken in this proclamation are superseded to the extent of such inconsistency.

(4) The modifications made by the Annex to this proclamation shall be effective with respect to articles entered, or withdrawn from warehouse for consumption, on or after the 15th day after the publication of this proclamation in the Federal Register.

IN WITNESS WHEREOF, I have hereunto set my hand this twenty-eighth day of August, in the year of our Lord two thousand two, and of the Independence of the United States of America the two hundred and twenty-seventh.

B

Billing code 3195-01-P

[FR Doc. 02-22527

Filed 8-30-02; 8:45 am]

Billing code 3190-01-C